DEPARTMENT OF TRANSPORTATION

Federal Highway Administration

Guidance on Traffic Control Devices at Highway-Rail Grade Crossings

AGENCY: Federal Highway Administration (FHWA), DOT.

ACTION: Notice; issuance of guidance.

SUMMARY: This notice announces that the FHWA has issued guidance to assist engineers in selection of traffic control devices or other measures at highway-rail crossings. The report, “Guidance on Traffic Control Devices at Highway-Rail Grade Crossings” is available at the following URL: http://safety.fhwa.dot.gov/media/twgreport.htm. This guidance is designed to assist in decisions to install traffic control devices or otherwise improve highway-rail grade crossings.

FOR FURTHER INFORMATION CONTACT: Mr. Robert Winans, Office of Safety Design, HSA-10, 202-366-4656 or Mr. Raymond Cuprill, Office of the Chief Counsel (HCC-30), 202-366-0791, Federal Highway Administration, 400 Seventh Street, SW., Washington, DC 20590-0001. Office hours are from 7:45 a.m. to 4:15 p.m., e.t., Monday through Friday, except Federal holidays.

SUPPLEMENTARY INFORMATION:

Electronic Access

An electronic copy of this notice may be downloaded using a computer, modem and suitable communications software from the Government Printing Office's Electronic Bulletin Board Service at (202) 512-1661. Internet users may reach the Office of the Federal Register's home page at: http://www.archives.gov and the Government Printing Office's web site at http://www.access.gpo.gov. An electronic version of the guidance document may be downloaded by accessing the FHWA web site at: http://safety.fhwa.dot.gov/media/twgreport.htm.

Background

According to the National Transportation Safety Board (NTSB),¹ more than 4000 accidents have occurred at the Nation's active and passive grade crossings ² each year from 1991 through 1996. The large number of passive grade crossings, the high percentage of fatalities that occur as passive grade crossings, and the cost to eliminate or upgrade passive grade crossings prompted the NTSB to conduct a study to identify some of the common causes for accidents at passive grade crossings, and to make recommendations to improve safety at passive grade crossings.³ As a part of this study, the NTSB convened a two-day public forum in Jacksonville, Florida, to gather information about issues affecting safety at passive grade crossings.

¹ The National Transportation Safety Board is an independent Federal agency dedicated to promoting aviation, railroad, highway, marine, pipeline, and hazardous materials safety. Established in 1967, the agency is mandated by Congress through the Independent Safety Board Act of 1974 to investigate transportation accidents, determine the probable causes of the accidents, issue safety recommendations, study transportation safety issues, and evaluate the safety effectiveness of government agencies involved in transportation. The NTSB makes public its actions and decisions through accident reports, safety studies, special investigation reports, safety recommendations, and statistical reviews.

² An active grade crossing is a highway-rail grade crossing when active warning devices such as flashing lights, bells, or gates are triggered by the approach of a train along the tracks, providing advance warning to the oncoming motorist that a train is approaching the crossing. A passive grade crossing is a highway-rail grade crossing that has only traffic control devices such as crossbuck, stop signs, or pavement markings that do not change to give the highway vehicle driver active visual or auditory warning of an approaching train.

³ The National Transportation Safety Board (NTSB) Safety Study, adopted on July 21, 1998, is available at the following URL: http://www.ntsb.gov/publictn/1998/SS9802.pdf.

The data from the NTSB's study, the testimony at the public forum, and additional research conducted by the NTSB led the NTSB to conclude that the current set of traffic signs used at passive grade crossings is not adequate. Therefore, the NTSB made several safety recommendations to the U.S. DOT, the States, and several other transportation related professional organizations.⁴

⁴ The NTSB made safety recommendations to the U.S. DOT, the FHWA, the National Highway Traffic Safety Administration (NHTSA), the Federal Railroad Administration (FRA); the States; Operation Lifesaver, Inc.; the American Association of Motor Vehicle Administrators; the American Automobile Association; the American Association of State Highway and Transportation Officials; the Professional Truck Drivers Institute of American; the Advertising Council, Inc.; the Association of American Railroads; the American Short Line and Regional Railroad Association; and the American Public Transit Association.

As a result of the safety recommendations to the U.S. DOT, then Secretary of Transportation, Rodney Slater, in December 1998, convened a U.S. DOT working group to respond to all the issues encompassed by the recommendations. The working group was comprised of representatives from the Federal Railroad Administration (FRA), the FHWA, the National Highway Traffic Safety Administration (NHTSA), and the Federal Transit Administration (FTA).

Because the NTSB study also concluded that the safety of passive grade crossings is enhanced when their design adheres to the applicable standards and guidelines such as the FHWA's “Railroad-Highway Grade Crossing Handbook” and the American Association of State Highway and Transportation Officials' (AASHTO) “A Policy on Geometric Design of Highways and Streets” (the Green Book), this working group formulated a project plan for developing guidance for State and local traffic engineers regarding highway-rail grade crossing traffic control devices and grade separation. The plan required that the U.S. DOT establish and assemble a Technical Working Group (TWG) to develop this guidance for the State and local jurisdictions. Representative from the same agencies that made up the U.S. DOT working group also served on the TWG along with individuals from the Intelligent Transportation Systems (ITS) Joint Program Office, the Research and Special Projects Administration (RSPA), the NTSB, transportation/safety associations and professional organizations, State and local transportation agencies, railroads, public safety organizations, universities, private sector consultants and product vendors.

A contractor provided research, report preparation and administrative support to the TWG. The first phase of the effort was a literature review of existing guidance. In the second phase, the TWG developed the guidance document. The TWG met as a group three times and provided comments on draft guidance at other times.

The result of the TWG's efforts is the report, “Guidance on Traffic Control Devices at Highway-Rail Grade Crossings” available at the following URL: http://safety.fhwa.dot.gov/media/twgreport.htm. This guidance is designed to assist in decisions to install traffic control devices or otherwise improve highway-rail grade crossings.

In addition to providing quantitative guidance for State and local engineers to select traffic control devices or other measures for use at highway-rail crossings, the FHWA expects the document to lead to improved communications between highway agencies, railroad companies, and government authorities involved in developing and implementing policies, rules and regulations.

Guidance

The FHWA guidance report, dated November 2002, is not to be interpreted as policy or standards. Any requirements that may be noted in this guidance are taken from the Manual on Uniform Traffic Control Devices for Streets and Highways (MUTCD)⁵ or other documents identified by footnotes in the report. The goal is to provide a document for users to understand general engineering and operational concepts of highway-rail grade crossings and provide guidance in the selection of traffic control devices or other measures at highway-rail grade crossings. It discusses a number of existing laws, regulations and policies of the FHWA and the FRA concerning highway-rail grade crossings and railroad operations, driver needs concerning various sight distances, and highway and rail system operational requirements and functional classification. It includes a description of passive and active traffic control devices, including supplemental devices used in conjunction with active controls. An appendix provides limited discussion on the topic of interconnection and preemption of traffic signals near highway-rail grade crossings.

⁵ The MUTCD is incorporated by reference in 23 CFR 655.601.

There is also discussion concerning crossing closure, grade separation, and consideration for installing new grade crossings. Finally, a glossary defines the technical terms.

Conclusion

The FHWA provides this guidance as another tool to highway engineers and transportation officials as a reference aid in decisions to install traffic control devices or otherwise improve highway-rail grade crossings, as well as provide information on additional references. The guidance is available electronically at the following URL: http://safety.fhwa.dot.gov/media/twgreport.htm and is available for copying and inspection at U.S. Department of Transportation Library, Room 2200, 400 Seventh Street, SW., Washington, DC 20590.

Authority: 23 U.S.C. 109(e), 120(c), 130, 133(d)(1), and 315; 49 CFR 1.48(b).

Issued on: December 18, 2002.
Mary E. Peters,
Federal Highway Administrator.

[FR Doc. 02-32406 Filed 12-23-02; 8:45 am]

BILLING CODE 4910-22-P